DEPARTMENT OF COMMERCE

Patent and Trademark Office

Agency Information Collection Activities; Submission to the Office of Management and Budget (OMB) for Review and Approval; Comment Request; Response to Office Action and Voluntary Amendment Forms

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on July 11, 2023 during a 60-day comment period. This notice allows for an additional 30 days for public comment.

Agency: United States Patent and Trademark Office, Department of Commerce.

Title: Response to Office Action and Voluntary Amendment Forms.

OMB Control Number: 0651-0050.

Needs and Uses: This collection of information is required by the Trademark Act (Act), 15 U.S.C. 1051 et seq., which provides for the registration of trademarks, service marks, collective trademark and service marks, collective membership marks, and certification marks. Individuals and businesses that use or intend to use such marks in commerce may file an application to register their marks with the USPTO. This information collection generally contains information that is not submitted with the initial trademark application but is associated with, or required for, the USPTO's review of applications for registration.

In some cases, the USPTO issues Office Actions to applicants who have applied to register a mark, requesting information that was not provided with the initial submission, but is required before the issuance of a registration. Also, the USPTO may determine that a mark is not entitled to registration, pursuant to one or more provisions of the Act. In such cases, the USPTO will issue an Office Action advising the applicant of the refusal to register the mark. Applicants reply to these Office Actions by providing the required information and/or by putting forth legal arguments as to why the refusal of registration should be withdrawn.

The USPTO administers the Act through title 37 of the Code of Federal Regulations. These rules allow the USPTO to request and receive information required to process applications. These rules also allow applicants to submit certain amendments to their applications.

Applicants may also supplement their applications and provide further information by filing a Voluntary Amendment Not in Response to USPTO Office Action/Letter, a Request for Reconsideration after Final Office Action, a Post-Approval/Publication/Post-Notice of Allowance (NOA) Amendment, a Petition to Amend Basis Post-Publication, or a Response to Suspension Inquiry or Letter of Suspension.

The 60-Day Federal Register notice was published with the form numbers associated with this information collection inadvertently left off. In this notice, the USPTO has included the form numbers associated with this information collection.

Form Numbers

• PTO-1771 (Post-Approval/Publication/Post-Notice of Allowance (NOA) Amendment)

• PTO-1772 (Petition to Amend Basis Post-Publication)

• PTO-1822 (Response to Suspension Inquiry or Letter of Suspension)

• PTO-1957 (Response to Office Action)

• PTO-1960 (Request for Reconsideration After Final Office Action)

• PTO-1966 (Voluntary Amendment Not in Response to USPTO Office Action/Letter)

Type of Review: Extension and revision of a currently approved information collection.

Affected Public: Private sector.

Respondent's Obligation: Required to obtain or retain a benefit.

Frequency: On occasion.

Estimated Number of Annual Respondents: 518,643 respondents.

Estimated Number of Annual Responses: 518,643 responses.

Estimated Time per Response: The USPTO estimates that the responses in this information collection will take the public approximately between 25 minutes (0.42 hours) and 50 minutes (0.83 hours) to complete. This includes the time to gather the necessary information, create the document, and submit the complete request to the USPTO.

Estimated Total Annual Respondent Burden Hours: 420,113 hours.

Estimated Total Annual Respondent Non-Hourly Cost Burden: $699,101.

This information collection may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review-Open for Public Comments” or by using the search feature and entering the title of the information collection of the OMB Control Number, 0651-0050.

Further information can be obtained by:

• Email: InformationCollection@uspto.gov. Include “0651-0050 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2023-21539 Filed 9-28-23; 8:45 am]

BILLING CODE 3510-16-P